DEPARTMENT OF HEALTH AND HUMAN SERVICES

Administration for Children and Families

Office of Community Services; Award a Single Source Replacement Grant

AGENCY: Office of Community Services, ACF, HHS.

ACTION: Notice to award a single source replacement grant.

CFDA No.: 93.710.

Amount of Award: $50,000.

Project Period: September 30, 2009 to September 29, 2010.

Legislative Authority: The legislative authority for this grant is provided in Section 674(b)(2) and 678A(a)(1)(A) of the Community Services Block Grant (CSBG) Act, as amended, by the Community Opportunities, Accountability, and Training and Educational Services (Coats Human Services Reauthorization Act of 1998) [Pub. L. 105-285].

SUMMARY: The Office of Community Services (OCS) awarded a single source replacement grant of $50,000 under the Community Services Block Grant (CSBG) Training and Technical Assistance and Capacity Building Program—Earned Income Tax Credit (EITC) and Other Asset Formation Opportunities program to Maryland Volunteer Lawyers Service (MVLS) in Baltimore, Maryland on September 30, 2007. On September 16, 2009, MVLS submitted a letter relinquishing their grant. Job Opportunities Task Force (JOTF) of Baltimore, Maryland, an eligible entity, submitted a letter and grant application on September 16, 2009, requesting approval as a single source replacement grantee for the CSBG EITC project as of September 30, 2009. The Administration for Children and Families (ACF) approved Job Opportunities Task Force as the permanent successor grantee for the award.

JOTF will continue to create strategic opportunities to connect workforce development programs with asset development programs, including statewide training standards for tax preparation and financial counseling training, during the third and final year of the project.

FOR FURTHER INFORMATION CONTACT: Danielle Williams, U.S. Department of Health and Human Services, Office of Community Services, Administration for Children and Families, 370 L'Enfant Promenade, SW., Washington, DC 20047, Telephone: (202) 205-4717, E-mail: Danielle.Williams@acf.hhs.gov.

Dated: December 11, 2009.
Yolanda J. Butler,
Acting Director, Office of Community Services.

[FR Doc. E9-30644 Filed 12-24-09; 8:45 am]

BILLING CODE 4184-27-P